DEPARTMENT OF ENERGY

Federal Energy Regulatory Commission

Combined Notice of Filings #1

Take notice that the Commission received the following electric corporate filings:

Docket Numbers: EC16-76-000.

Applicants: Cedar Creek Wind Energy, LLC.

Description: Application Under Section 203 of the FPA of Cedar Creek Wind Energy, LLC.

Filed Date: 2/19/16.

Accession Number: 20160219-5215.

Comments Due: 5 p.m. ET 3/11/16.

Take notice that the Commission received the following electric rate filings:

Docket Numbers: ER14-1579-000.

Applicants: PJM Interconnection, L.L.C.

Description: Report Filing: Potomac Electric submits Refund Report under Cancellation of SA No. 3555 to be effective N/A.

Filed Date: 2/22/16.

Accession Number: 20160222-5042.

Comments Due: 5 p.m. ET 3/14/16.

Docket Numbers: ER16-976-000.

Applicants: PacifiCorp.

Description: § 205(d) Rate Filing: OATT Formula Rate—Attachment T (Temporary Schedule 10) to be effective 4/19/2016.

Filed Date: 2/19/16.

Accession Number: 20160219-5187.

Comments Due: 5 p.m. ET 3/11/16.

Docket Numbers: ER16-977-000.

Applicants: PJM Interconnection, L.L.C.

Description: Tariff Cancellation: Notice of Cancellation of the Solar Wind WMPA SA No. 3205, Queue No. W4-011 to be effective 2/22/2016.

Filed Date: 2/22/16.

Accession Number: 20160222-5035.

Comments Due: 5 p.m. ET 3/14/16.

Docket Numbers: ER16-978-000.

Applicants: AEP Texas Central Company.

Description: § 205(d) Rate Filing: TCC-Rocksprings Val Verde Wind Interconnection Agreement First Amend & Restated to be effective 2/1/2016.

Filed Date: 2/22/16.

Accession Number: 20160222-5037.

Comments Due: 5 p.m. ET 3/14/16.

Docket Numbers: ER16-979-000.

Applicants: Niagara Mohawk Power Corporation, Inc., New York Independent System Operator, Inc.

Description: § 205(d) Rate Filing: Cost Reimbursement Agreement (SA 2264) between NMPC and the Oneida Indian Nation to be effective 12/14/2015.

Filed Date: 2/22/16.

Accession Number: 20160222-5039.

Comments Due: 5 p.m. ET 3/14/16.

Docket Numbers: ER16-980-000.

Applicants: Midcontinent Independent System Operator, Inc., MidAmerican Energy Company.

Description: § 205(d) Rate Filing: 2016-02-22_SA 2314 MidAmerican Lehigh-Webster 3rd Rev IA to be effective 2/23/2016.

Filed Date: 2/22/16.

Accession Number: 20160222-5040.

Comments Due: 5 p.m. ET 3/14/16.

Docket Numbers: ER16-981-000.

Applicants: Consolidated Edison Company of New York, Inc., New York Independent System Operator, Inc.

Description: § 205(d) Rate Filing: Con Edison and Central Hudson Facilities Agreement, SA# 2263 to be effective 4/22/2016.

Filed Date: 2/22/16.

Accession Number: 20160222-5107.

Comments Due: 5 p.m. ET 3/14/16.

Docket Numbers: ER16-982-000.

Applicants: Midcontinent Independent System Operator, Inc.

Description: § 205(d) Rate Filing: 2016-02-22_SA 2017 ITC Midwest-Barton Wind 4th Rev GIA (G540/G548) to be effective 8/1/2014.

Filed Date: 2/22/16.

Accession Number: 20160222-5109.

Comments Due: 5 p.m. ET 3/14/16.

Docket Numbers: ER16-983-000.

Applicants: Southern California Edison Company.

Description: § 205(d) Rate Filing: Amended LGIA Mojave Solar LLC to be effective 4/22/2016.

Filed Date: 2/22/16.

Accession Number: 20160222-5131.

Comments Due: 5 p.m. ET 3/14/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 22, 2016.
Nathaniel J. Davis, Sr.,
Deputy Secretary.

[FR Doc. 2016-04149 Filed 2-25-16; 8:45 am]

BILLING CODE 6717-01-P